SMALL BUSINESS ADMINISTRATION

[Disaster Declaration #15057 and #15058]

Kansas Disaster Number KS-00099

AGENCY: U.S. Small Business Administration.

ACTION: Amendment 1.

SUMMARY: This is an amendment of the Presidential declaration of a major disaster for Public Assistance Only for the State of Kansas (FEMA-4304-DR), dated 02/24/2017.

Incident: Severe Winter Storm.

Incident Period: 01/13/2017 through 01/16/2017.

DATES: Effective Date: 03/23/2017.

Physical Loan Application Deadline Date: 04/25/2017.

Economic Injury (EIDL) Loan Application Deadline Date: 11/27/2017.

ADDRESSES: Submit completed loan applications to: U.S. Small Business Administration Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Kansas, dated 02/24/2017, is hereby amended to include the following areas as adversely affected by the disaster.

Primary Counties: Rice, Russell

All other information in the original declaration remains unchanged.

(Catalog of Federal Domestic Assistance Number 59008)

James E. Rivera,
Associate Administrator for Disaster Assistance.

[FR Doc. 2017-06156 Filed 3-28-17; 8:45 am]

BILLING CODE 8025-01-P